DEPARTMENT OF HOMELAND SECURITY

Federal Emergency Management Agency

[Docket ID FEMA-2014-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance”)

Dated: December 11, 2014.
Roy E. Wright,
Deputy Associate Administrator for Mitigation, Department of Homeland Security, Federal Emergency Management Agency.

State and county | Location and case No. | Chief executive officer of community | Community map repository | Effective date of modification | Community No.
Delaware: New Castle, (FEMA Docket No.: B-1432) | Unincorporated areas of New Castle County, (13-03-2557P) | The Honorable Thomas P. Gordon, New Castle County Executive, 87 Reads Way, New Castle, DE 19720 | New Castle County Government Center, Land Use Department, 87 Reads Way, New Castle, DE 19720 | November 14, 2014 | 105085
Minnesota: | Steele, (FEMA Docket No.: B-1432) | City of Owatonna, (14-05-4257P) | The Honorable Thomas Kuntz, Mayor, City of Owatonna, 540 West Hills Circle, Owatonna, MN 55060 | City Administration Building, 540 West Hills Circle, Owatonna, MN 55060 | November 12, 2014 | 270463
Steele, (FEMA Docket No.: B-1432) | Unincorporated areas of Steele County, (14-05-4257P) | Mr. Tom Shea, Steele County Administrator, P.O. Box 890, Owatonna, MN 55060 | Steele County Planning and Zoning Department, 630 Florence Avenue, Owatonna, MN 55060 | November 12, 2014 | 270635
Oklahoma:
Tulsa, (FEMA Docket No.: B-1432) | City of Owasso, (13-06-0281P) | The Honorable Jeri Moberly, Mayor, City of Owasso, 111 North Main Street, Owasso, OK 74055 | City Municipal Building, 111 North Main Street, Owasso, OK 74055 | October 24, 2014 | 400210
Tulsa, (FEMA Docket No.: B-1432) | Unincorporated areas of Tulsa County, (13-06-0281P) | The Honorable Ron Peters, Chairman, Tulsa County Board of Commissioners, 500 South Denver Avenue, Tulsa, OK 74103 | Tulsa County Administration Building, 500 South Denver Avenue, Tulsa, OK 74103 | October 24, 2014 | 400462
Texas:
Bexar, (FEMA Docket No.: B-1432) | City of San Antonio, (13-06-3277P) | The Honorable Ivy R. Taylor, Mayor, City of San Antonio, P.O. Box 839966, San Antonio, TX 78283 | Department of Public Works, Storm Water Engineering, 1901 South Alamo Street, 2nd Floor, San Antonio, TX 78204 | November 6, 2014 | 480045
Collin, (FEMA Docket No.: B-1437) | City of Allen, (13-06-4603P) | The Honorable Stephen Terrell, Mayor, City of Allen, 305 Century Parkway, 1st Floor, Allen, TX 75013 | City Hall, 305 Century Parkway, Allen, TX 75013 | November 7, 2014 | 480131
El Paso, (FEMA Docket No.: B-1432) | City of El Paso, (14-06-2375P) | The Honorable Oscar Leeser, Mayor, City of El Paso, 300 North Campbell Street, El Paso, TX 79901 | Engineering Department, 222 South Campbell Street, El Paso, TX 79901 | October 27, 2014 | 480214
Harris, (FEMA Docket No.: B-1432) | Unincorporated areas of Harris County, (14-06-1909P) | The Honorable Ed M. Emmett, Harris County Judge, 1001 Preston Street, Suite 911, Houston, TX 77002 | Harris County Permits Office, 10555 Northwest Freeway, Suite 120, Houston, TX 77092 | November 5, 2014 | 480287
Montgomery, (FEMA Docket No.: B-1432) | City of Conroe, (13-06-3866P) | The Honorable Webb K. Melder, Mayor, City of Conroe, P.O. Box 3066, Conroe, TX 77305 | City Hall, 300 West Davis Street, Conroe, TX 77301 | October 29, 2014 | 480484
Tarrant, (FEMA Docket No.: B-1441) | City of Keller, (13-06-4442P) | The Honorable Mark Mathews, Mayor, City of Keller, P.O. Box 770, Keller, TX 76244 | City Hall, 1100 Bear Creek Parkway, Keller, TX 76248 | November 21, 2014 | 480602
Tarrant, (FEMA Docket No.: B-1441) | City of Southlake, (13-06-4442P) | The Honorable John Terrell, Mayor, City of Southlake, 1400 Main Street, Suite 270, Southlake, TX 76092 | Public Works Department, Administration and Engineering Division, 1400 Main Street, Suite 320, Southlake, TX 76092 | November 21, 2014 | 480612
Virginia:
Arlington, (FEMA Docket No.: B-1432) | Unincorporated areas of Arlington County, (13-03-1764P) | The Honorable Jay Fisette, Jr., Chairman, Arlington County Board, 2100 Clarendon Boulevard, Suite 300, Arlington, VA 22201 | Arlington County Department of Environmental Services, 2100 Clarendon Boulevard, Suite 800, Arlington, VA 22201 | October 31, 2014 | 515520
City of Falls Church, (FEMA Docket No.: B-1432) | Independent City of Falls Church, (13-03-1764P) | The Honorable David Tarter, Mayor, City of Falls Church, 300 Park Avenue, Suite 300 East, Falls Church, VA 22046 | Department of Public Works, 300 Park Avenue, Suite 100 West, Falls Church, VA 22046 | October 31, 2014 | 510054

[FR Doc. 2014-30642 Filed 12-30-14; 8:45 am]

BILLING CODE 9110-12-P